DEPARTMENT OF JUSTICE

Notice of Lodging of Proposed Modification of Consent Decree Under the Clean Air Act

On December 22, 2017, the Department of Justice lodged a proposed modification to a Consent Decree with the United States District Court for the Western District of Oklahoma in United States and the Oklahoma Department of Environmental Quality and the State of Alabama v. Continental Carbon Company, Civil Case No. 5:15-cv-00290-F (W.D. Okla.).

The original Consent Decree was entered on May 7, 2015, and resolved civil claims under the Clean Air Act at the Defendant's three carbon black manufacturing facilities located in Oklahoma, Alabama, and Texas. The Consent Decree imposed various pollution control requirements on Defendant's facilities, including requirements related to sulfur dioxide, nitrogen oxides, and particulate matter emissions. At the Ponca City facility in Oklahoma and the Phenix City facility in Alabama, these pollution control requirements included, among other requirements, installation of Dry Gas Scrubber or Wet Gas Scrubber (“DGS” or “WGS”) systems designed to reduce sulfur dioxide emissions, and Selective Catalytic Reduction (“SCR”) systems to reduce nitrogen oxide emissions. The sulfur dioxide reduction systems are also expected to result in an ancillary reduction in particulate matter emissions.

The parties have now agreed to modify certain Consent Decree deadlines. The modification resolve issues regarding the feasibility of the affected deadlines and resolves a potential dispute between the parties concerning them. The modification does not change Defendant's ultimate obligation to install and operate pollution controls at its facilities.

The publication of this notice opens a period for public comment on the proposed modification to the Consent Decree. Comments should be addressed to the Assistant Attorney General, Environment and Natural Resources Division, and should refer to United States et al. v. Continental Carbon Company, Civil Case No. 5:15-cv-00290-F (W.D. Okla.), D.J. Ref. No. 90-5-2-1-09729. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed modification to the Consent Decree may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $4.75 (25 cents per page reproduction cost) payable to the United States Treasury.

Thomas Carroll,
Assistant Section Chief, Environmental Enforcement Section, Environment and Natural Resources Division.

[FR Doc. 2017-28102 Filed 12-27-17; 8:45 am]

BILLING CODE 4410-15-P